DEPARTMENT OF LABOR

Employment and Training Administration

[TA-W-41,771]

Standard Container Company, Badger Basket Division, Edgar, WI; Notice of Termination of Investigation

Pursuant to section 221 of the Trade Act of 1974, an investigation was initiated on July 1, 2002, in response to a worker petition which was filed by the company on behalf of workers at Standard Container Company, Badger Basket Division, Edgar, Wisconsin.

The petitioner has requested that the petition be withdrawn. Consequently, further investigation in this case would serve no purpose, and the investigation has been terminated.

Signed in Washington, DC, this 22nd day of August, 2002.
Elliott S. Kushner,
Certifying Officer, Division of Trade Adjustment Assistance.

[FR Doc. 02-22961 Filed 9-9-02; 8:45 am]

BILLING CODE 4510-30-P